DEPARTMENT OF THE INTERIOR

National Park Service

Notice of Availability of Draft Director's Order Concerning National Park Service Policies and the Acquisition of Leased Space

AGENCY: National Park Service, Interior.

ACTION: Notice of availability.

SUMMARY: The National Park Service (NPS) has prepared a Director's Order setting forth its policies and procedures governing acquisition of leased space. When adopted, the policies and procedures will apply to all units of the national park system, and will supersede and replace policies and procedures issued in October, 1994.

DATES: Written comments will be accepted on or before May 28, 2002.

ADDRESSES: Requests for copies and written comments for Draft Director's Order #89 should be sent to Bruce Blackistone, Office of Special Programs, Mail Stop 3657, National Park Service, Department of the Interior, 1849 C Street, NW., Washington, DC 20240; or to the Internet address: bruce_blackistone@nps.gov.

FOR FURTHER INFORMATION CONTACT: Bruce Blackistone at 202-565-1173.

SUPPLEMENTARY INFORMATION: The NPS is updating its current system of internal written instructions. When these documents contain new policy or procedural requirements that may affect parties outside of the NPS, they are first made available for public review and comment before being adopted. The draft Director's Order covers topics regarding the leasing of buildings and other facilities from external sources to provide support for various NPS activities.

Individual respondents may request that we withhold their home address from the administrative record, which we will honor to the extent allowable by the law. There also may be circumstances in which we would withhold from the record the respondent's identity, as allowable by law. If you wish us to withhold your name and/or address, you must state this prominently at the beginning of your comment.

Dated: April 1, 2002.
Alfred J. Poole III,
Assistant for Special Programs.

[FR Doc. 02-10133 Filed 4-24-02; 8:45 am]

BILLING CODE 4310-70-P